DEPARTMENT OF COMMERCE

Submission for OMB Review; Comment Request

The Department of Commerce will submit to the Office of Management and Budget (OMB) for clearance the following proposal for collection of information under the provisions of the Paperwork Reduction Act (44 U.S.C. Chapter 35).

National Oceanic and Atmospheric Administration (NOAA).

Title: Seafood Inspection and Certification Requirements.

Form Number(s): None.

OMB Approval Number: 0648-0266.

Type of Request: Regular submission.

Burden Hours: 8,139.

Number of Respondents: 3,339.

Average Hours Per Response: Application for inspection services, application for appeal, and contract completion, 5 minutes; label and specification submission, 30 minutes; Hazard Analysis Critical Control Point (HACCP) participant application, 60 hours; and HACCP current participants' recordkeeping, 40 hours.

Needs and Uses: The National Marine Fisheries Service (NMFS) operates a voluntary fee-for-service seafood inspection program (Program) under the authorities of the Agricultural Marketing Act of 1946, as amended, the Fish and Wildlife Act of 1956, and Reorganization Plan No. 4 of 1970. The regulations for the Program are contained in 50 CFR Part 260. The Program offers inspection grading, and certification services, including the use of official quality grade marks which indicate that specific products have been Federally inspected. Those wishing to participate in the Program must request the services and submit specific compliance information.

Affected Public: Business or other for-profit organizations State, Local or Tribal Government.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 14, 2008.
Gwellnar Banks,
Management Analyst, Office of the Chief Information Officer.

[FR Doc. E8-16435 Filed 7-17-08; 8:45 am]

BILLING CODE 3510-22-P